ENVIRONMENTAL PROTECTION AGENCY

[FRL-9949-78-OLEM]

The Hazardous Waste Electronic Manifest System Advisory Board: Request for Nominations

AGENCY: Environmental Protection Agency (EPA).

ACTION: Request for nominations.

SUMMARY: The U.S. Environmental Protection Agency (EPA) invites nominations of qualified candidates to be considered for a three-year appointment to fill one IT expert position on the Hazardous Waste Electronic Manifest System Advisory Board (the “Board”). Pursuant to the Hazardous Waste Electronic Manifest Establishment Act (the “e-Manifest Act” or the “Act”), EPA has established the Board to provide practical and independent advice, consultation, and recommendations to the EPA Administrator on the activities, functions, policies and regulations associated with the Hazardous Waste Electronic Manifest (e-Manifest) System.

DATES: Nominations should be received on or before August 29, 2016.

ADDRESSES: Nominations should be submitted via email to eManifest@epa.gov, and identified with “BOARD NOMINATION” in the subject line of the email.

FOR FURTHER INFORMATION CONTACT: Fred Jenkins, Designated Federal Officer (DFO), U.S. Environmental Protection Agency, Office of Resource Conservation and Recovery, (MC: 5303P), 1200 Pennsylvania Avenue NW., Washington, DC, 20460, Phone: 703-308-7049; or by email: jenkins.fred@epa.gov.

SUPPLEMENTARY INFORMATION: The e-Manifest Act was signed into law on October 5, 2012 (http://www.gpo.gov/fdsys/pkg/BILLS-112s710enr/pdf/BILLS-112s710enr.pdf). Under the terms of the e-Manifest Act, 42 U.S.C. 6939(g), EPA is required to establish a national electronic Information Technology (IT) manifest system. This system is to enable users of the uniform hazardous waste manifest forms (EPA Form 8700-22 and Continuation Sheet 8700-22A) to have the option to more efficiently track their hazardous waste shipments electronically, in lieu of the paper manifest, from the point of generation, during transportation, and to the point of receipt by an off-site facility that is permitted to treat, store, recycle, or dispose of the hazardous waste. Electronic manifests obtained from the national system will augment or replace the paper forms that are currently used for this purpose, and that result in substantial paperwork costs and other inefficiencies. Congress intended that EPA develop a system that, among other things, meets the needs of the user community and decreases the administrative burden associated with the current paper-based manifest system on the user community. The Agency anticipates that utilizing electronic manifests will the reduce burden by reporting facilities by 300,000 to 700,000 hours annually, and will produce annualized and discounted cost savings over the initial six years of about $34 million. Undiscounted cost savings should reach $75 million or more each year, once the system is fully established and deployment costs have been paid off. To ensure that these goals are met, the Act directs EPA to establish the Board to assess the effectiveness of the electronic manifest system and make recommendations to the Administrator for improving the system.

In addition, the e-Manifest Act directs EPA to develop a system that attracts sufficient user participation and service revenues to ensure the viability of the system. As a result, the Act provides EPA broad discretion to establish reasonable user fees, as the Administrator determines are necessary, to pay costs incurred in developing, operating, maintaining, and upgrading the system, including any costs incurred in collecting and processing data from any paper manifest submitted to the system after the system enters operation. The Board will meet to assess the adequacy and reasonableness of the service fees and, if necessary, make recommendations to the Administrator to adjust the fees accordingly.

Prior to system deployment, the Board will be asked to provide recommendations on important system development matters and on potential increases or decreases to the amount of a service fee determined under the fee structure. Substantial system development planning work is underway. The Agency is utilizing lean start-up product development strategies with agile, user-centered design and development methodologies, and is currently conducting additional system development procurement activities. The Agency anticipates the initial system deployment to occur in 2018.

The system will provide the functionality of the current paper manifest process, in a more efficient electronic workflow, and will meet all requirements specified in the e-Manifest Act and e-Manifest Final Rule, which was published on February 7, 2014 (https://www3.epa.gov/epawaste/laws-regs/state/revision/frs/fr231.pdf). The initial system is envisioned to be a national, electronic system (internet-based) that will enable current users of the manifest form to sign, transmit, archive, and retrieve manifests electronically. The e-Manifest system is further envisioned to allow a fully electronic mobile workflow. The mobile workflow will provide both on-line and off-line capabilities which could enable users to complete an electronic manifest even when internet access is unavailable. EPA envisions that the system will provide all data processing (paper and electronic formats), data storage, and data reporting back out to industry and state users, as well as appropriate public accessibility of data. Finally, e-Manifest aligns with the Agency's E-Enterprise business strategy. E-Enterprise for the Environment is a transformative 21st century strategy—jointly governed by states and EPA—for modernizing government agencies' delivery of environmental protection. Under this strategy, the Agency will streamline its business processes and systems to reduce reporting burden on states and regulated facilities, and improve the effectiveness and efficiency of regulatory programs for EPA, states and tribes.

Although the system has not been completed, the Board is established in accordance with the provisions of the, e-Manifest Act and the Federal Advisory Committee Act (FACA), 5 U.S.C. App.2. The Board is in the public interest and supports EPA in performing its duties and responsibilities. Pursuant to the e-Manifest Act, the Board will be comprised of nine members, of which one member is the Administrator (or a designee), who will serve as Chairperson of the Board, and eight members will be individuals appointed by the EPA administrator:

—At least two of whom have expertise in information technology (IT);

—At least three of whom have experience in using, or represent users of, the manifest system to track the transportation of hazardous waste under federal and state manifest programs; and

—At least three state representatives responsible for processing those manifests.

The Board will meet at least annually as required by the e-Manifest Act. However, additional meetings may occur approximately once every six months or as needed and approved by the DFO.

Member Nominations: Pursuant to the e-Manifest Act, the Board will assist the Agency in evaluating the effectiveness of the e-Manifest IT system and associated user fees; identifying key issues associated with the system, including the need (and timing) for user fee adjustments; system enhancements; and providing independent advice on matters and policies related to the e-Manifest program. The Board will provide recommendations on matters related to the operational activities, functions, policies, and regulations of EPA under the e-Manifest Act, including proposing actions to encourage the use of the electronic (paperless) system, and actions related to the E-Enterprise strategy that intersect with e-Manifest. These intersections may include issues such as business to business communications, performance standards for mobile devices, and Cross Media Electronic Reporting Rule (CROMERR) compliant e-signatures.

Any interested person and/or organization may nominate qualified individuals for membership. EPA values and welcomes diversity. In an effort to obtain nominations of diverse candidates, the Agency encourages nominations of women and men of all racial and ethnic groups. All candidates will be considered and screened against the criteria listed below as well as EPA's Conflict of Interest (COI) and appearance of bias guidance (http://www.epa.gov/peerreview/pdfs/spc_peer_rvw_handbook_addendum.pdf and http://www.epa.gov/osa/pdfs/epa-process-for-contractor.pdf). Currently there is one IT expert position available to be filled on the Board. The other positions have already been filled pursuant to EPA's request for nominations that was previously published in the Federal Register (80 FR 8643, February 18, 2015).

IT nominees should have core competencies and experience in large scale systems and application development and integration, deployment and maintenance, user help desk and support, and expertise relevant to support the complexity of an e-Manifest system. Examples of this expertise may include but are not limited to: Expertise with web-based and mobile technologies, particularly that support large scale operations for geographically diverse users; expertise in IT security, including perspective on federal IT security requirements; expertise in electronic signature and user management approaches; expertise with scalable hosting solutions such as cloud-based hosting; and expertise in user experience. Existing knowledge of, or willingness to gain an understanding of EPA shared services and enterprise architecture is a plus as is experience in setting and managing fee-based systems in general. Additional criteria used to evaluate nominees include:

• Excellent interpersonal, oral, and written communication skills;

• Demonstrated experience developing group recommendations;

• Willingness to commit time to the Board and demonstrated ability to work constructively on committees;

• Absence of financial conflicts of interest;

• Impartiality (including the appearance of impartiality); and

• Background and experiences that would help members contribute to the diversity of perspectives on the Board, e.g., geographic, economic, social, cultural, educational backgrounds, professional affiliations, and other considerations.

Nominations must include a resume, which provides the nominee's background, experience and educational qualifications, as well as a brief statement (one page or less) describing the nominee's interest in serving on the Board and addressing the other criteria previously described. Nominees are encouraged to provide any additional information that they believe would be useful for consideration, such as: Availability to participate as a member of the Board; how the nominee's background, skills and experience would contribute to the diversity of the Board; and any concerns the nominee has regarding membership. Nominees should be identified by name, occupation, position, current business address, email, and telephone number. Interested candidates may self-nominate. The Agency will acknowledge receipt of nominations.

The person selected for membership will receive compensation for travel and a nominal daily compensation (if appropriate) while attending meetings. Additionally, the selected candidate will be designated as a Special Government Employee (SGE) or consultant. Candidates designated as SGEs are required to fill out the “Confidential Financial Disclosure Form for Environmental Protection Agency Special Government Employees” (EPA Form 3310-48). This confidential form provides information to EPA ethics officials to determine whether there is a conflict between the SGE's public duties and their private interests, including an appearance of a loss of impartiality as defined by federal laws and regulations. One example of a potential conflict of interest may be for IT professional(s) serving in an organization that is awarded any related e-Manifest system development contract(s).

Dated: July 15, 2016.
Barnes Johnson,
Director, Office of Resource Conservation and Recovery, Office of Land and Emergency Management.

[FR Doc. 2016-17782 Filed 7-27-16; 8:45 am]

BILLING CODE 6560-50-P